DEPARTMENT OF COMMERCE

International Trade Administration

[A-475-703]

Granular Polytetrafluoroethylene Resin from Italy: Final Results of Changed Circumstances Review

AGENCY: Import Administration, International Trade Administration, Department of Commerce.

ACTION: Notice of Final Results of Antidumping Duty Changed Circumstances Review.

SUMMARY: On March 20, 2003, the Department of Commerce published a notice of initiation and preliminary results of its changed circumstances review of the antidumping duty order on granular polytetrafluoroethylene resin from Italy (PTFE) (see Antidumping Duty Order; Granular Polytetrafluoroethylene Resin from Italy, 53 FR 33163 (August 30, 1988)) in which we preliminarily determined that Solvay Solexis SpA and Solvay Solexis, Inc. were the successors-in-interest to Ausimont SpA and Ausimont USA, Inc. We gave interested parties an opportunity to comment on the preliminary results of review, but received no comments. Therefore, the final results do not differ from the preliminary results of review.

EFFECTIVE DATE: May 12, 2003.

FOR FURTHER INFORMATION CONTACT: Vicki Schepker, Import Administration, International Trade Administration, U.S. Department of Commerce, 14th Street and Constitution Avenue, NW, Washington, DC 20230; telephone (202) 482-1756.

SUPPLEMENTARY INFORMATION:

Background:

On March 20, 2003, in accordance with Section 751(b) of the Tariff Act of 1930, as amended (the Act), and 19 CFR 351.216 and 351.221(c)(3), the Department initiated a changed circumstances review and published its preliminary results in the Federal Register, preliminarily finding Solvay Solexis SpA and Solvay Solexis, Inc. (collectively, Solvay Solexis) to be the successors-in-interest to Ausimont SpA and Ausimont USA, Inc. (collectively, Ausimont). See Granular Polytetrafluoroethylene Resin from Italy; Initiation and Preliminary Results of Antidumping Duty Changed Circumstances Review, 68 FR 13672 (March 20, 2003) (Preliminary Results). We invited interested parties to comment on these findings. No comments were received.

Scope of the Review

The product covered by this review is granular PTFE resin, filled or unfilled. This order also covers PTFE wet raw polymer exported from Italy to the United States. See Final Affirmative Determination; Granular Polytetrafluoroethylene Resin from Italy, 58 FR 26100 (April 30, 1993). This order excludes PTFE dispersions in water and fine powders. Such merchandise is classified under item number 3904.61.00 of the Harmonized Tariff Schedule of the United States (HTSUS). We are providing this HTSUS number for convenience and customs purposes only. The written description of the scope remains dispositive.

Final Results of Changed Circumstances Review

Because we received no comments on the Preliminary Results and for the reasons stated in the Preliminary Results, we find Solvay Solexis to be the successor-in-interest to Ausimont for antidumping duty cash deposit purposes. In order to make this determination, we examined Ausimont's personnel, operations, supplier/customer relationships, and facilities by reviewing an amended certificate of incorporation, investor presentations, an application for amended certificate of authority, shareholder meeting minutes, press releases discussing the Solvay Group's purchase of Ausimont, management charts, a letter to customers, and product labels. Based on all the evidence reviewed, we find that Solvay Solexis is the successor-in-interest to Ausimont. Solvay Solexis will receive the same antidumping duty cash-deposit rate (i.e., 12.08 percent) with respect to the subject merchandise as Ausimont, its predecessor company. This cash deposit requirement will be effective upon publication of this notice for all shipments of the subject merchandise by Solvay Solexis entered, or withdrawn from warehouse, for consumption, on or after the publication date of this notice. This cash deposit rate shall remain in effect until publication of the final results of the next administrative review in which Solvay Solexis participates.

We are issuing and publishing this finding and notice in accordance with sections 751(b)(1) and 777(i)(1) of the Act and section 351.216 of the Department's regulations.

Dated: May 5, 2003.
Joseph A. Spetrini,
Acting Assistant Secretary for Import Administration.

[FR Doc. 03-11744 Filed 5-9-02; 8:45 am]

BILLING CODE 3510-DS-S